DEPARTMENT OF TRANSPORTATION

Federal Aviation Administration

14 CFR Part 107

[Docket No. FAA-2018-1087; Amdt. No. 107-9]

RIN 2120-AK85

Operation of Small Unmanned Aircraft Systems Over People; Technical Amendments

AGENCY: Federal Aviation Administration (FAA), U.S. Department of Transportation (DOT).

ACTION: Technical amendments.

SUMMARY: The Federal Aviation Administration is making technical amendments to the “Operation of Small Unmanned Aircraft Systems over People” final rule, which was published on January 15, 2021. The final rule document inadvertently misnumbered regulatory text and used inconsistent language to refer to a process.

DATES: Effective November 10, 2021.

FOR FURTHER INFORMATION CONTACT: Michael Machnik, General Aviation and Commercial Division, Flight Standards Service, Federal Aviation Administration, 800 Independence Avenue SW, 8th Floor, Washington, DC 20591; telephone 1-844-FLY-MYUA; email: UASHelp@faa.gov.

SUPPLEMENTARY INFORMATION:

Electronic Access and Filing

A copy of the notice of proposed rulemaking (NPRM) (84 FR 3856, February 13, 2019), all comments received, the final rule, and all background material may be viewed online at https://www.regulations.gov using the docket number listed above. A copy of these technical amendments will be placed in the docket. Electronic retrieval help and guidelines are available on the website. It is available 24 hours each day, 365 days each year. An electronic copy of this document may also be downloaded from the Office of the Federal Register's website at https://www.federalregister.gov and the Government Publishing Office's website at https://www.govinfo.gov. A copy may also be found at the FAA's Regulations and Policies website at https://www.faa.gov/regulations_policies.

Copies may also be obtained by sending a request to the Federal Aviation Administration, Office of Rulemaking, ARM-1, 800 Independence Avenue SW, Washington, DC 20591, or by calling (202) 267-9677. Commenters must identify the docket or notice number of this rulemaking.

All documents the FAA considered in developing these technical amendments, including economic analyses and technical reports, may be accessed in the electronic docket for this rulemaking.

Good Cause for Adoption Without Prior Notice

Section 553(b)(3)(B) of the Administrative Procedure Act (APA) (5 U.S.C. 551 et seq.) authorizes agencies to dispense with notice and comment procedures for rules when the agency for “good cause” finds that those procedures are “impracticable, unnecessary, or contrary to the public interest.” Section 553(d)(3) of the APA requires that agencies publish a rule not less than 30 days before its effective date, except as otherwise provided by the agency for good cause found and published with the rule.

Because this action merely makes technical amendments to a published final rule, the FAA finds that notice and public comment under 5 U.S.C. 553(b) is unnecessary. For the same reason, the FAA finds that good cause exists under 5 U.S.C. 553(d) for making this rule effective in less than 30 days.

Background

On January 15, 2021, the “Operation of Small Unmanned Aircraft Systems Over People” final rule (RIN 2120-AK85) published in the Federal Register at 86 FR 4314. After the rule was published, the FAA discovered three minor drafting errors that require correction. This document corrects drafting errors in § 107.110(b) and (c) and in § 107.125(a)(2). In § 107.110, two paragraphs were designated improper paragraph levels. Section 107.110(b) should change to § 107.110 (a)(2) and § 107.110(c) should change to § 107.110(b). The final drafting errors that occur in § 107.125(a)(2) should read as “FAA-accepted declaration of compliance,” instead of “current” declaration of compliance, to match the language in § 107.115(a)(2).

List of Subjects in 14 CFR Part 107

Aircraft, airmen, Aviation safety, Reporting and recordkeeping requirements.

Accordingly, the FAA corrects 14 CFR part 107 by making the following technical amendments:

PART 107—SMALL UNMANNED AIRCRAFT SYSTEMS

1. The authority citation for part 107 continues to read as follows:

Authority: 49 U.S.C. 106(f), 40101 note, 40103(b), 44701(a)(5), 46105(c), 46110, 44807.

§ 107.110 [Amended]

2. Amend § 107.110 by redesignating paragraphs (b) and (c) and paragraphs (a)(2) and (b), respectively.

3. Amend § 107.125 by revising paragraph (a)(2) to read as follows:

§ 107.125 Category 3 operations: Operating requirements.

* * * * *

(a) * * *

(2) Is listed on an FAA-accepted declaration of compliance as eligible for Category 3 operations in accordance with § 107.160; and

* * * * *

Issued in Washington, DC, under the authority provided by 49 U.S.C. 106(f), 40101 note and 44807.
Caitlin Locke,
Acting Deputy Executive Director, Office of Rulemaking, Federal Aviation Administration.

[FR Doc. 2021-24550 Filed 11-9-21; 8:45 am]

BILLING CODE 4910-13-P